DEPARTMENT OF COMMERCE

National Oceanic and Atmospheric Administration

Availability of Seats for the National Marine Sanctuary of American Samoa Advisory Council

AGENCY: Office of National Marine Sanctuaries (ONMS), National Ocean Service (NOS), National Oceanic and Atmospheric Administration (NOAA), Department of Commerce (DOC).

ACTION: Notice and request for applications.

SUMMARY: The ONMS is seeking applications for the following vacant seats on the National Marine Sanctuary of American Samoa Advisory Council: Community-at-Large: Tutuila East Side, and Community-at-Large: Manu'a Area. Applicants are chosen based upon their particular expertise and experience in relation to the seat for which they are applying; community and professional affiliations; philosophy regarding the protection and management of marine resources; and possibly the length of residence in the area affected by the sanctuary. Applicants who are chosen as members should expect to serve 3-year terms, pursuant to the council's charter.

DATES: Applications are due by May 2, 2013.

ADDRESSES: Application kits may be obtained from Veronika Mata'utia Mortenson in the Tauese P.F. Sunia Ocean Center in Utulei, American Samoa. Completed applications should be submitted to the same address.

FOR FURTHER INFORMATION CONTACT: Veronika Mata'utia Mortenson, Tauese P.F. Sunia Ocean Center in Utulei, American Samoa, American Samoa, 684-633-6500 ext. 229, veronika.mortenson@noaa.gov.

SUPPLEMENTARY INFORMATION: The National Marine Sanctuary of American Samoa Advisory Council was established in 2005 pursuant to Federal law to ensure continued public participation in the management of the sanctuary. The Sanctuary Advisory Council brings members of a diverse community together to provide advice to the Sanctuary Manager (delegated from the Secretary of Commerce and the Under Secretary for Oceans and Atmosphere) on the management and protection of the Sanctuary, or to assist the National Marine Sanctuary Program in guiding a proposed site through the designation or the periodic management plan review process.

Authority: 16 U.S.C. Sections 1431, et seq.

(Federal Domestic Assistance Catalog Number 11.429 Marine Sanctuary Program)

Dated: March 28, 2013.
Daniel J. Basta,
Director, Office of National Marine Sanctuaries, National Ocean Service, National Oceanic and Atmospheric Administration.

[FR Doc. 2013-07823 Filed 4-3-13; 8:45 am]

BILLING CODE 3510-NK-M